DEPARTMENT OF AGRICULTURE

National Institute of Food and Agriculture

Notice of Intent To Revise and Extend a Currently Approved Information Collection

AGENCY: National Institute of Food and Agriculture, USDA.

ACTION: Notice and request for comments.

SUMMARY: In accordance with Office of Management and Budget (OMB) regulations that implement the Paperwork Reduction Act of 1995, this notice announces the National Institute of Food and Agriculture's (NIFA) intention to request Office of Management and Budget (OMB) approval for the revision and extension of a currently approved information collection for the Expanded Food and Nutrition Education Program (EFNEP).

DATES: Written comments on this notice must be received by September 4, 2015, to be assured of consideration. Comments received after that date will be considered to the extent practicable.

ADDRESSES: Written comments concerning this notice and requests for copies of the information collection may be submitted by any of the following methods: Email: rmartin@nifa.usda.gov; Fax: 202-720-0857; Mail: Office of Information Technology (OIT), NIFA, USDA, STOP 2216, 1400 Independence Avenue SW., Washington, DC 20250-2216.

FOR FURTHER INFORMATION CONTACT: Robert Martin, eGovernment Program Leader; Email: rmartin@nifa.usda.gov.

SUPPLEMENTARY INFORMATION:

Title: Expanded Food and Nutrition Education Program.

OMB Number: 0524-0044.

Expiration Date of Current Approval: January 31, 2016.

Type of Request: Intent to seek approval for the revision and extension of a currently approved information collection for three years.

Abstract: NIFA's Expanded Food and Nutrition Education Program (EFNEP) is a unique program that began in 1969 and is designed to reach limited resource audiences, especially youth and families with young children. EFNEP is authorized under section 1425 of the National Agricultural Research, Extension, and Teaching Policy Act of 1977 (7 U.S.C. 3175) and funded under section 3(d) of the Smith-Lever Act (7 U.S.C. 343(d)). Extension professionals train and supervise paraprofessionals and volunteers who teach food and nutrition information and skills to limited resource families and youth. EFNEP operates through the 1862 and 1890 Land Grant Universities (LGU) in all 50 States, the District of Columbia, and in American Samoa, Guam, Micronesia, Northern Marianas, Puerto Rico, and the Virgin Islands.

The objectives of EFNEP are to assist limited resource families and youth in acquiring the knowledge, skills, attitudes, and changed behaviors necessary for nutritionally sound diets, and to contribute to their personal development and the improvement of the total family diet and nutritional well-being.

NIFA sponsors an integrated data collection process that is used at the county, State, and Federal level. The current data collection system, the Web-based Nutrition Education Evaluation and Reporting System (WebNEERS), captures EFNEP impacts. Its purpose is to gauge if the Federal assistance provided has had an impact on the target audience. It also enables EFNEP staff to make programmatic improvements in delivering nutrition education. Further, the data collected provide information for program management decisions and diagnostic assessments of participant needs. In order to capture all of EFNEP's reporting requirements in one place, EFNEP program plans and budgetary data are now submitted, reviewed, and approved through WebNEERS. These EFNEP specific reporting requirements are tied to release of Federal EFNEP funds.

Specifications for this system were developed by a committee of representatives from across the United States and are in compliance with Federal standards for maintaining, collecting, and presenting data on race and ethnicity and protecting personally identifiable information.

WebNEERS stores information on: (1) Adult program participants, their family structure, and dietary practices; (2) youth group participants; (3) staff; (4) annual budgets; and (5) annual program plans. WebNEERS is one web-based system which operates on three levels: The Region level (County), Institution level (university), and the Federal level. Data are entered at the regional level. They are available in aggregated form at the Institution level in real time. University staff generates State-level reports for State-level stakeholders and to guide program management decisions (State also refers to the District of Columbia and the insular areas; in States that have both 1862 and 1890 LGUs, it refers to the individual universities). Data are not available to the Federal level until the university staff submits them. This process allows for State and National assessments of the program's impact. The National data are used to create National reports which are made available to the public.

There are revisions to the currently approved collection. WebNEERS is an update to the currently approved NEERS5 system. WebNEERS is a secure online system designed, hosted, and maintained by Clemson University. WebNEERS is accessed through the Internet via Internet Explorer, Firefox, Google Chrome, and Safari web browsers. It can also be accessed through mobile devices and tablets. It incorporates local, university, and Federal components from the NEERS5 system as well as new elements such as the EFNEP 5-Year Plan/Annual Update (program plan), the EFNEP budget and budget justification, and the social ecological framework of the Community Nutrition Education (CNE) logic model. Only approved users can access WebNEERS and each user can only access data based on his/her defined permissions. The updated system also has the capability to export raw data for external analysis. Data exported from WebNEERS do not include personally identifiable information. Several stakeholder groups provided input on the updated system to ensure that EFNEP continues to collect only those data which it needs for evaluation and reporting. These groups also gave feedback to improve user interfaces and to improve functionality and capabilities of the system.

The evaluation processes of EFNEP remain consistent with the requirements of Congressional legislation and OMB. The Government Performance and Results Act (GPRA) of 1993 (Pub. L. 103-62), the GPRA Modernization Act of 2010 (Pub. L. 111-352), the Federal Agriculture Improvement Reform (FAIR) Act of 1996 (Pub. L. 104-127), and the Agricultural Research, Extension and Education Reform Act (AREERA) of 1998 (Pub. L. 105-185), together with OMB requirements, support the reporting requirements requested in this information collection. Section 804 of the FAIR act requires the development and implementation of a system to monitor and evaluate agricultural research and extension activities in order to measure the impact and effectiveness of research, extension, and education programs. AREERA requires a performance evaluation to be conducted to determine whether Federally funded agricultural research, extension, and education programs result in public goods that have national or multistate significance.

Estimate of Burden: The total annual estimated burden for WebNEERS is 86,826 hours for this data collection process—for participant education and data entry, aggregation, and reporting; and for preparation, review, and submission of EFNEP program plans and budgetary information. The burden for respondents was estimated through feedback from a survey sent by Clemson University to nine EFNEP Coordinators and their data managers. Seven surveys were returned. The estimate was 1,158 hours per response and annually there are 75 total responses. Burden estimates are seven percent lower than they were for NEERS5 even with the inclusion of the new reporting elements (EFNEP program plans and budgets). This indicates that even though additional reporting requirements were included in the updated system, the overall burden to the users was reduced.

Comments: Comments are invited on: (a) Whether the proposed collection of information is necessary for the proper performance of the functions of the Agency, including whether the information will have practical utility; (b) the accuracy of the Agency's estimate of the burden of the proposed collection of information; (c) ways to enhance the quality, utility, and clarity of the information to be collected; and (d) ways to minimize the burden of the collection of information on those who are to respond, including through the use of appropriate automated, electronic, mechanical, or other technological collection techniques or other forms of information technology.

Done in Washington, DC, this 23rd day of June, 2015.
Ann Bartuska,
Deputy Under Secretary, Research, Education, and Economics.

[FR Doc. 2015-16472 Filed 7-2-15; 8:45 am]

BILLING CODE 3410-22-P